DEPARTMENT OF ENERGY

10 CFR Part 431

[Docket Nos. EE-RM/TP-99-450 and EE-RM/TP-05-500]

RIN 1904-AA96 and 1904-AB53

Energy Conservation Program: Certification, Compliance, and Enforcement Requirements for Certain Consumer Products and Commercial and Industrial Equipment; Correction

AGENCY: Office of Energy Efficiency and Renewable Energy, Department of Energy.

ACTION: Final rule; technical correction.

SUMMARY: This document contains a technical correction to the final rule regarding the certification, compliance and enforcement regulations that was published on January 5, 2010. In that final rule, the U.S. Department of Energy (DOE) adopted regulations to implement reporting requirements for energy conservation standards and energy use, and to address other matters, including compliance certification, prohibited actions, and enforcement procedures for specific consumer products and commercial and industrial equipment. Due to drafting errors, language added to the rule in one amendment was deleted from the rule by another amendment, and certain erroneous internal cross references were made. This correction addresses these errors.

DATES: This technical correction is effective February 4, 2010.

FOR FURTHER INFORMATION CONTACT: Michael McCabe, U.S. Department of Energy, Office of Energy Efficiency and Renewable Energy, Building Technologies Program, EE-2J, 1000 Independence Avenue, SW., Washington, DC 20585-0121, (202) 586-9155. E-mail: Michael.McCabe@ee.doe.gov.

Michael Kido, U.S. Department of Energy, Office of the General Counsel, GC-72, 1000 Independence Avenue, SW., Washington, DC 20585-0121, (202) 586-9507. E-mail: Michael.Kido@hq.doe.gov.

SUPPLEMENTARY INFORMATION:

I. Background

On January 5, 2010, the U.S. Department of Energy's (DOE) Office of Energy Efficiency and Renewable Energy (EERE) published a final rule titled “Certification, Compliance, and Enforcement Requirements for Certain Consumer Products and Commercial and Industrial Equipment.” 75 FR 652. Since the publication of that rule, it has come to DOE's attention that due to a technical oversight, a certain part of the final regulations was inadvertently deleted from the final rule. DOE did not intend to remove this language from its regulations and through this correction document DOE reinserts this inadvertently deleted language. Additionally, certain sections of the regulatory text have an internal referencing error.

II. Need for Correction

As published, the final regulation erroneously removed two provisions that DOE had intended to reserve (10 CFR 431.171) and to amend (10 CFR 431.172). This document intends to reestablishes these provisions. In FR Doc. E9-30886, appearing in the notice beginning on page 652 in the Federal Register of Tuesday, January 5, 2010, the following corrections are made:

Subpart J—[Corrected]

1. On page 667, in the second column, correct the table of contents for subpart J to part 431 to read as follows:

Subpart J—Provisions for Commercial Heating, Ventilating, Air-Conditioning and Water Heating Products
Sec.
431.171 Purpose and scope. [Reserved]
431.172 Definitions.
431.173 Requirements applicable to all manufacturers.
431.174 Additional requirements applicable to Voluntary Independent Certification Program participants.
431.175 Additional requirements applicable to non-Voluntary Independent Certification Program participants.
431.176 Voluntary Independent Certification Programs.

2. On page 667, in the second column, directly below the heading of subpart J, add and reserve § 431.171, and add § 431.172, to read as follows:

§ 431.171 Purpose and scope. [Reserved]

§ 431.172 Definitions.

The following definitions apply for purposes of subparts D through G, J through K and subpart T of this part. Other terms in these subparts shall be defined elsewhere in the Part and, if not defined in this part, shall have the meaning set forth in section 340 of the Act.

Alternate efficiency determination method or AEDM means a method of calculating the efficiency of a commercial HVAC and WH product, in terms of the descriptor used in or under section 342(a) of the Act to state the energy conservation standard for that product.

Basic model means, with respect to a commercial HVAC & WH product, all units of such product, manufactured by one manufacturer, which have the same primary energy source and which do not have any differing electrical, physical, or functional characteristics that affect energy consumption.

Commercial HVAC & WH product means any small or large commercial package air-conditioning and heating equipment, packaged terminal air conditioner, packaged terminal heat pump, commercial packaged boiler, hot water supply boiler, commercial warm air furnace, instantaneous water heater, storage water heater, or unfired hot water storage tank.

Flue loss means the sum of the sensible heat and latent heat above room temperature of the flue gases leaving the appliance.

Industrial equipment means an article of equipment, regardless of whether it is in fact distributed in commerce for industrial or commercial use, of a type which:

(1) In operation consumes, or is designed to consume energy;

(2) To any significant extent, is distributed in commerce for industrial or commercial use; and

(3) Is not a “covered product” as defined in Section 321(2) of EPCA, 42 U.S.C. 6291(2), other than a component of a covered product with respect to which there is in effect a determination under Section 341(c) of EPCA, 42 U.S.C. 6312(c).

Private labeler means, with respect to a commercial HVAC & WH product, an owner of a brand or trademark on the label of a product which bears a private label. A commercial HVAC & WH product bears a private label if:

(1) Such product (or its container) is labeled with the brand or trademark of a person other than a manufacturer of such product;

(2) The person with whose brand or trademark such product (or container) is labeled has authorized or caused such product to be so labeled; and

(3) The brand or trademark of a manufacturer of such product does not appear on such label.

§ 431.373 [Corrected]

3. On page 672, in the first and second columns under § 431.373, revise paragraphs (a)(3)(ii) and (iii), and on page 673, in the first column under § 431.373, revise paragraph (a)(6)(i)(B) to read as follows:

§ 431.373 Enforcement.

* * * * *

(a) * * *

(3) * * *

(ii) For automatic commercial ice makers, as well as commercial refrigerators, freezers, and refrigerator-freezers, the methods are described in appendix D to subpart T of part 431 and include the following provisions:

* * * * *

(iii) For commercial HVAC and WH products, the methods are described in appendix D to subpart T of part 431 and include the following provisions:

* * * * *

(6) * * *

(i) * * *

(B) For automatic commercial ice makers, as well as commercial refrigerators, freezers, and refrigerator-freezers, the applicable provisions in appendix D to subpart T of part 431, and limited to a maximum of six additional units of basic model.

* * * * *

Issued in Washington, DC, on January 22, 2010.
Cathy Zoi,
Assistant Secretary, Energy Efficiency and Renewable Energy.

[FR Doc. 2010-1728 Filed 1-27-10; 8:45 am]

BILLING CODE 6450-01-P